DEPARTMENT OF THE TREASURY

Engraving and Printing Bureau

Agency Information Collection Activities; Proposed Collection; Comment Request; Bureau of Engraving and Printing Background Information Request Form

AGENCY: Bureau of Engraving and Printing, U.S. Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before June 28, 2021.

ADDRESSES: Send comments regarding the burden estimate, or any other aspect of the information collection, including suggestions for reducing the burden, to Treasury PRA Clearance Officer, 1750 Pennsylvania Ave. NW, Suite 8142, Washington, DC 20220, or email at PRA@treasury.gov.

FOR FURTHER INFORMATION CONTACT: Copies of the submissions may be obtained from Crystal Johnson by emailing the Banknote Equipment Manufacturer and Currency Reader Manufacturers Support office at BEM_and_CRM_Customer_Support@bep.gov, calling (202) 664-3466, or viewing the entire information collection request at www.reginfo.gov.

SUPPLEMENTARY INFORMATION:

Title: Bureau of Engraving and Printing Background Investigation Request Form.

OMB Control Number: 1525-NEW.

Type of Review: New Collection.

Description: The Background Information Request Form for is completed by applicant companies per BEP Circular 82-00.13 to establish the eligibility of each company and key personnel to gain access to test decks of new designs and production samples of Federal Reserve Notes so they can update their products to denominate and/or authenticate genuine currency. The applicant companies are Banknote Equipment Manufacturers (BEMs) and Currency Reader Manufacturers (CRMs). Banknote Equipment Manufacturers (BEMs) are companies that produce any type of equipment that handles banknotes for commercial purposes involving accept/reject decisions for FRNs. Currency Reader Manufacturers (CRMs) are companies that produce a commercially available device or application designed for the purpose of denominating US currency by an individual.

Form: None.

Affected Public: Banknote Equipment Manufacturers and Currency Reader Manufacturers and their employees.

Estimated Number of Respondents: 150.

Frequency of Response: on occasion.

Estimated Total Number of Annual Responses: 50.

Estimated Time per Response: 45 minutes.

Estimated Total Annual Burden Hours: 37.5.

Request for comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: April 26, 2021.
Katherine A. Allen,
BEP PRA Clearance Officer.

[FR Doc. 2021-08964 Filed 4-28-21; 8:45 am]

BILLING CODE 4840-01-P